DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 15, 2001.

Interested persons are invited to submit written comments regarding the subject matter of the investigations to the Director, Division of Trade Adjustment Assistance, at the address shown below, not later than October 15, 2001.

The petitions filed in this case are available for inspection at the Office of the Director, Division of Trade Adjustment Assistance, Employment and Training Administration, U.S. Department of Labor, Room C-5311, 200 Constitution Avenue, NW., Washington, DC 20210.

Signed at Washington, DC this 6th day of August, 2001.
Edward A. Tomchick,
Director, Division of Trade Adjustment Assistance.

Appendix
[Petitions instituted on 08/06/2001]
TA-W | Subject firm (petitioners) | Location | Date of petition | Product(s)
39,733 | Raltron Electronics (Wrks) | Miami, FL | 07/18/2001 | Oscilatores.
39,734 | Vale Hoists (Wrks) | Forrest City, AR | 07/19/2001 | Rope Hoists.
39,735 | Atchison Products, Inc. (Wrks) | Boonville, MO | 06/14/2001 | Sports Bag, Tote Bags, Briefcases.
39,736 | Air-Way Manufacturing Co. (Wrks) | Olivet, MI | 07/21/2001 | Hydraulic Fittings and Adapters.
39,737 | Rebel Screeners, Inc. (Comp.) | Sharon, TN | 07/17/2001 | Screen Prints Sleepwear.
39,738 | Progressive Tool and Die (Comp.) | Meadville, PA | 07/12/2001 | Seal Punch, Presses, Tooling.
39,739 | Memc Southwest (Wrks) | Sherman, TX | 07/11/2001 | Wafer Fabrication.
39,740 | Houze Glass Corp. (AFGWU) | Point Marion, PA | 07/16/2001 | Silkscreened Coffee Mugs and Glassware.
39,741 | Stuckey Co., Inc. (Wrks) | Norman, OK | 07/18/2001 | Jewelry.
39,742 | Republic Technologies (USWA) | Johnstown, PA | 07/16/2001 | Steel Billets.
39,743 | DuPont Corp. (Comp) | Charleston, SC | 07/18/2001 | Polyester Fiber.
39,744 | American Steel Foundry (Wrks) | Alliance, OH | 06/25/2001 | Steel Railroad Castings.
39,745 | Sisco, Inc. (Wrks) | Tulsa, OK | 07/13/2001 | Repairing Molds.
39,746 | Cody Energy LLC (Comp) | Denver, CO | 07/24/2001 | Oil and Gas.
39,747 | Precision Flame, Inc. (Comp) | Bourbonnais, IL | 07/08/2001 | Flame Cut Steel Parts.
39,748 | Engel Machinery, Inc. (Wrks) | York, PA | 07/06/2001 | Injection Molding Machines.
39,749 | BHP Copper, Inc. (Comp) | Miami, AZ | 07/11/2001 | Copper.
39,750 | ArvinMeritor, Light (Comp) | Pulaski, TN | 07/18/2001 | Vehicle Shock Absorbers.
39,751 | Grover Industries, Inc. (Comp) | Grover, NC | 07/19/2001 | Spun Yarn.
39,752 | Sola Optical USA, Inc. (Comp) | Eldon, MO | 07/20/2001 | Glass Ophthalmic Lenses.
39,753 | Cumberland Wood Products (Wrks) | Helenwood, TN | 07/18/2001 | Wooden Reels and Spools.
39,754 | Kellwood Co. (Comp) | Fernwood, MS | 07/19/2001 | Finished Swimwear.
39,755 | Ethan Allen, Island Pond (Wrks) | Island Pond, VT | 07/12/2001 | Case Goods and Accent Pieces.
39,756 | Kimberly Clark Corp. (Wrks) | Conway, AR | 07/24/2001 | Feminine Care Products.
39,757 | International Paper (Comp) | Corinth, NY | 07/24/2001 | Specialty Coated Calendar Paper.
39,758 | Citation (USWA) | Mansfield, OH | 07/25/2001 | Metal Parts of Autos and Trucks.
39,759 | Delta Apparel (Comp) | Washington, GA | 07/17/2001 | Tee Shirts.
39,760 | Kingfield Wood Products (Comp.) | Kingfield, ME | 07/27/2001 | Wood Components: Game Pieces, Furniture.
39,761 | Shurmag Corp./WoodTek (Wrks) | No. Anson, ME | 07/27/2001 | Meter Boxes.
39,762 | Edinboro Molding, Inc. (Comp) | Edinboro, PA | 07/25/2001 | Electronic Components.
39,763 | West Bend Co. (The) (PACE) | West Bend, WI | 07/25/2001 | Electrical Kitchen Appliances.
39,764 | Oxford Industries, Inc. (Comp) | Columbia, SC | 07/30/2001 | Ladies' Apparel.
39,765 | Rugged Sportswear LLC (Comp) | LaGrange, NC | 07/18/2001 | T-Shirts, Sweat Shirts and Pants.
39,766 | Yazoo Uniforms (Comp) | Yazoo City, MS | 07/23/2001 | Hospital Scrubs.
39,767 | Bremen-Bowdon Investment (Comp) | Bowdon, GA | 07/20/2001 | Men's Suits and Sport Coats.
39,768 | Power One (Wrks) | Allston, MA | 07/20/2001 | Board Mounted Power Supplies.
39,769 | Paxar Fabric Label Group (Wrks) | Canton, NC | 07/19/2001 | Woven Fabric Labels.
39,770 | Furnlite, Inc. (Wrks) | Fallston, NC | 07/20/2001 | Cabinet Lights and Powerstrips.
39,771 | Stevens Lighting, Inc. (Comp) | Aberdeen, NC | 07/20/2001 | Lampshades.
39,772 | Manitowoc Boom Trucks (Comp) | York, PA | 07/27/2001 | Pedestals and Turrets of Boom Cranes.
39,773 | Russell Corp. (Comp) | Lafayette, AL | 07/09/2001 | T-Shirts and Sweatshirts.
39,773A | Russell Corp. (Co.) | Alexander City, AL | 07/09/2001 | T-Shirts and Sweatshirts & Yarn.
39,773B | Russell Corp. (Co.) | Sylacauga, AL | 07/09/2001 | T-Shirts and Sweatshirts & Yarn.
39,773C | Russell Corp. (Co.) | Alexander City, AL | 07/09/2001 | T-Shirts and Sweatshirts & Yarn.
39,774 | Warner Electric Brake (USWA) | Roscoe, IL | 06/26/2001 | Electric Brakes and Clutches.
39,775 | Harriet and Henderson (Comp) | Henderson, NC | 07/24/2001 | Cotton and Synthetic Yarn.
39,776 | River Parishes Oil Co. (Comp) | Norco, LA | 07/24/2001 | Oil, Gasoline, Diesel.

[FR Doc. 01-24828 Filed 10-3-01; 8:45 am]

BILLING CODE 4510-30-M